DEPARTMENT OF STATE

[Public Notice: 12035]

60-Day Notice of Proposed Information Collection: Family Reunification Assistance for Afghan Parolee's Immediate Family Members Outside the United States

ACTION: Notice of request for public comment.

SUMMARY: The Department of State (Department) is seeking Office of Management and Budget (OMB) approval for the information collection described below. In accordance with the Paperwork Reduction Act of 1995, we are requesting comments on this collection from all interested individuals and organizations. The purpose of this notice is to allow 60 days for public comment preceding submission of the collection to OMB.

DATES: The Department will accept comments from the public up to June 12, 2023.

ADDRESSES: You may submit comments by any of the following methods:

• Web: Persons with access to the internet may comment on this notice by going to www.Regulations.gov. You can search for the document by entering “Docket Number: DOS-2023-0011” in the Search field. Then click the “Comment Now” button and complete the comment form.

• Regular Mail: Send written comments to: Public Comments Processing, Office of the Coordinator for Afghan Relocation Efforts, Department of State, Washington, DC 20522-0603.

You must include the DS form number (if applicable), information collection title, and the OMB control number in any correspondence.

FOR FURTHER INFORMATION CONTACT: Direct requests for additional information regarding the collection listed in this notice, including requests for copies of the proposed collection instrument and supporting documents, to Family Reunification Project Manager, Office of the Coordinator for Afghan Relocation Efforts, Department of State, Washington, DC 20522-0603, who may be reached on 703-875-3087 or at CAREFamReunification@state.gov.

SUPPLEMENTARY INFORMATION:

• Title of Information Collection: Family Reunification Assistance for Afghan Parolee's Immediate Family Members Located in Afghanistan.

• OMB Control Number: 1405-0251.

• Type of Request: Extension of a currently approved collection.

• Originating Office: Bureau of South and Central Asian Affairs, SCA/CARE.

• Form Number: DS-4317.

• Respondents: Respondents are Afghan nationals who were paroled into the United States and remain a parolee, or paroled into the United States and subsequently granted Temporary Protect Status (TPS).

• Estimated Number of Respondents: 20,000.

• Estimated Number of Responses: 3,000.

• Average Time per Response: 30 minutes.

• Total Estimated Burden Time: 1,500 hours.

• Frequency: On occasion.

• Obligation to Respond: Voluntary.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

The U.S. Government agreed that Afghans paroled under Operation Allies Welcome (OAW) or those paroled then subsequently granted Temporary Protected Status (TPS), could request U.S. Government-supported family reunification support for their spouses and unmarried children under 21 who remain physically present in Afghanistan. The Office of the Coordinator for Afghan Relocation Efforts (CARE) is using the DS-4317 to collect this information under emergency authorization from OMB. This authorization expires on 7/31/2023.

State requires a publicly advertised system that is sustainable and efficient and that enables data validation with U.S. Government databases. The Department requests continuance of the existing authority to use the DS-4317 to acquire the most current and accurate data possible to inform its relocation assistance efforts. It will enable the Department to build a current picture of how many Afghans may be eligible for relocation and to progress with assisting them to depart Afghanistan. The online form helps avoid unstructured requests for assistance, such as those that arrive via email messages, which may not include important information, such as family size and their biodata, and which often require entry into other systems to facilitate responses. This form is integrated with other elements of the Department's evolving information technology platform, enhancing the efficient handling of individual cases.

The information on this form is requested pursuant to 5 U.S.C. 301 (Secretary of State's authorities with respect to Management of the Department of State), 22 U.S.C. 2651a (Organization of the Department of State), and 8 U.S.C. 1101-1537 (Immigration and Nationality Act of 1952, as amended).

Methodology

Information from applicants is collected through an electronic version of the DS-4317. Data from the application is stored in IRM's ServiceNow platform.

Kevin E. Bryant,
Deputy Director, Office of Directrices Management, Department of State.

[FR Doc. 2023-07663 Filed 4-11-23; 8:45 am]

BILLING CODE 4710-31-P